GENERAL SERVICES ADMINISTRATION

41 CFR Part 102-192

[FMR Case 2008-102-4; Docket 2008-0001; Sequence 1]

RIN 3090-AI79

Federal Management Regulation (FMR); Mail Management; Financial Requirements for All Agencies

AGENCY: Office of Governmentwide Policy, GSA.

ACTION: Proposed rule.

SUMMARY: The General Services Administration (GSA) is proposing to amend the Federal Management Regulation (FMR) by revising its mail management policy. A major part of the proposed revision involves the removal of the agency requirement to pay the United States Postal Service (USPS) using commercial payment processes. This proposed rule also revises the term “commercial payment process”, removes the definition “large agency”, requires all agencies to provide an annual mail management report, changes the date of the annual report, removes the description of facility and program mail manager responsibilities, recommends all agencies implement the process of consolidation of mail and requires all agencies to expand existing mail security policy to include guidance for employees receiving incoming and sending outgoing official mail at an alternative worksite. Finally, this proposed rule encourages agencies to increase sustainable activities in their mail programs, and makes editorial and technical corrections. This case is included in GSA's retrospective review of existing regulations under Executive Order 13563. Additional information is available at www.gsa.gov/improvingregulations.

DATES: Interested parties should submit written comments to the Regulatory Secretariat at one of the addressees shown below on or before July 12, 2013 to be considered in the formation of the final rule.

ADDRESSES: Submit comments in response to FMR Case 2008-102-4 by any of the following methods:

• Regulations.gov: http://www.regulations.gov. Submit comments via the Federal eRulemaking portal by searching for “FMR Case 2008-102-4”. Follow the instructions provided at the “Submit a Comment” screen. Please include your name, company name (if any), and “FMR Case 2008-102-4” on your attached document.

• Fax: 202-501-4067.

• Mail: General Services Administration, Regulatory Secretariat (MVCB), ATTN: Hada Flowers, 1275 First Street NE., 7th Floor, Washington, DC 20417.

Instructions: Please submit comments only and cite FMR Case 2008-102-4, in all correspondence related to this case. All comments received will be posted without change to http://www.regulations.gov, including any personal and/or business confidential information provided.

FOR FURTHER INFORMATION CONTACT: For clarification of content, contact Derrick Miliner, Office of Governmentwide Policy, Mail Management Program, at 202-273-3564, or email him at derrick.miliner@gsa.gov. Please cite FMR case 2008-102-4. For information pertaining to status or publication schedules, contact the Regulatory Secretariat (MVCB), 1275 First Street NE., Washington, DC 20417, 202-501-4755.

SUPPLEMENTARY INFORMATION:

A. Background

On June 6, 2002, GSA published an interim rule in the Federal Register (67 FR 38899) that required all payments to the United States Postal Service (USPS) be made using commercial payment processes, not the Official Mail Accounting System (OMAS). The initial conversion date of October 1, 2003, was subsequently changed to December 31, 2003 by an amendment published in the Federal Register on September 29, 2003 (68 FR 56112). Many agencies unfortunately were not able to meet this goal.

If agencies did not convert to the commercial payment process by that date, they were required to submit a deviation request for an extension. If granted, the deviation could last for no longer than a two-year period (per internal GSA policy), at which time agencies would have to request another deviation. FMR Bulletin G-01, published in the Federal Register on May 13, 2008 (73 FR 27540), granted a 12 month deviation from April 11, 2008 through April 13, 2009 for conversion to the commercial payment process. FMR Bulletin G-02 extended the period granted in FMR Bulletin G-01 to April 13, 2010. GSA granted agencies another automatic 12-month deviation and advised agencies that had unexpired deviations that they did not need to take any additional action because GSA was reassessing the policy. This proposed rule reflects agency comments and GSA's proposed change in policy, namely that agencies would not be required to switch payment systems with the USPS.

A proposed rule was published in the Federal Register on January 9, 2009 (74 FR 870), to allow agencies a choice of methods to best show their accountability for mail management. GSA received the following two comments:

1. The Department of State commented that agencies should be allowed to continue using OMAS as long as they can demonstrate savings and detailed accountability as described in 41 CFR part 102-192. For these reasons, the Department of State believes that deviations should still be accepted and granted on a case by case basis.

2. The Social Security Administration proposed that GSA amend subpart B of 41 CFR part 102-192 to include the following language: “Agencies with locations in areas where post offices cannot support the use of a commercial payment system shall be exempt from part 102-92 subpart B. Additionally, agencies whose mission critical operations would be comprised [sic] by converting to a commercial payment process shall be exempt from part 102-192 subpart B.”

The proposed rule published today reflects a new direction that would remove the requirement to pay the USPS using only commercial payment processes. If adopted as a final rule, agencies could continue to pay the USPS using their existing OMAS account. This approach would be consistent with both comments received on the proposed rule published in the Federal Register on January 9, 2009 (74 FR 870).

Additionally, publishing this proposed rule allows the opportunity to vet with all agencies several changes that GSA drafted in conjunction with the Federal Mail Executive Council. This new proposed rule allows those impacted, such as small agencies, as well as other interested parties, a period to comment and for GSA to respond to those comments prior to issuing a final rule.

Proposed Changes to 41 CFR Part 102-192

Accordingly, this proposed rule, if adopted as a final rule, would:

1. Remove the agency requirement to pay the USPS using commercial payment processes and redefine the term “commercial payment process.”

2. Remove the definition of “large agency,” which is defined as an agency whose total payments to all mail service providers exceed $1 million per fiscal year.

3. With regard to the annual mail management report:

a. Require all agencies, regardless of size, to provide an annual mail management report. For agencies previously exempt from the reporting requirement (those below the “large agency” threshold) that are newly required to report, annual reporting beginning with FY 2013 data will begin in FY 2014.

b. Amend the annual reporting date. The report would be due on October 31 for information covering the previous fiscal year rather than on January 15 for the previous fiscal year.

c. Require agencies to submit an annual mail management report to the Office of Governmentwide Policy, Mail Management Policy, through the Simplified Mail Accountability Reporting Tool (SMART).

d. Point to an FMR bulletin that details the reporting requirements at www.gsa.gov/fmrbulletin.

4. Remove the description of facility and program mail manager responsibilities and assign those responsibilities to the agency mail manager, who may choose to delegate part or all of these responsibilities.

5. Recommend all agencies implement the process of consolidation for internal and external mail.

6. Require all agencies to expand existing mail security policy to include guidance for employees receiving incoming and sending outgoing official mail at an alternative worksite.

7. Encourage agencies to increase sustainable activities in their mail programs.

8. Make editorial and technical corrections.

B. Executive Orders 12866 and 13563

Executive Order (E.O.) 12866 of September 30, 1993 (“Regulatory Planning and Review”) and E.O. 13563 of January 18, 2011 (“Improving Regulation and Regulatory Review”) direct agencies to assess all costs and benefits of available regulatory alternatives and, if regulation is necessary, to select regulatory approaches that maximize net benefits including potential economic, environmental, public health and safety effects, distributive impacts, and equity. E.O. 13563 emphasizes the importance of quantifying both costs and benefits, of reducing costs, of harmonizing rules, and of promoting flexibility. This proposed rule is not a significant regulatory action and, therefore, is not subject to review under Section 6(b) of E.O. 12866. This proposed rule is not a major rule under 5 U.S.C. 804.

C. Regulatory Flexibility Act

This proposed rule will not have a significant economic impact on a substantial number of small entities within the meaning of the Regulatory Flexibility Act, 5 U.S.C. 601, et seq. This proposed rule is also exempt from the Administrative Procedure Act per 5 U.S.C. 553(a)(2) because it applies to agency management or personnel.

D. Paperwork Reduction Act

The Paperwork Reduction Act does not apply because this proposed rule does not impose recordkeeping or information collection requirements, or the collection of information from offerors, contractors, or members of the public which require the approval of the Office of Management and Budget (OMB) under 44 U.S.C. 3501, et seq.

E. Small Business Regulatory Enforcement Fairness Act

This proposed rule is exempt from Congressional review under 5 U.S.C. 801 since it relates solely to agency management or personnel.

List of Subjects in 41 CFR Part 102-192

Government contracts, Mail, Performance measurement, Records management, Reporting recordkeeping requirements, and Security.

Dated: May 1, 2013.
Kathleen M. Turco,
Associate Administrator, Office of Governmentwide Policy.

For the reasons set forth in the preamble, GSA proposes to revise 41 CFR part 102-192 to read as follows:

PART 102-192—MAIL MANAGEMENT

Subpart A—Introduction to This Part
Sec.
102-192.5 What does this part cover?
102-192.10 What authority governs this part?
102-192.15 How are “I”, “you”, “me”, “we”, and “us” used in this part?
102-192.20 How are “must” and “should” used in this part?
102-192.25 Does this part apply to me?
102-192.30 To what types of mail and materials does this part apply?
102-192.35 What definitions apply to this part?
102-192.40 Where can we obtain more information about the classes of mail?
102-192.45 How can we request a deviation from these requirements, and who can approve it?
Subpart B—Agency Requirements
Financial Requirements for All Agencies
102-192.50 What payment processes are we required to use?
102-192.55 Why must we use these payment processes?
102-192.60 How do we implement these payment processes?
102-192.65 What features must our finance systems have to keep track of mail expenditures?
Security Requirements for All Agencies
102-192.70 What security policies and plans must we have?
102-192.75 Why must we have written security policies and plans?
102-192.80 How do we develop written security policies and plans?
Reporting Requirements for All Agencies
102-192.85 Who must report to GSA annually?
102-192.90 What must we include in our annual mail management report to GSA?
102-192.95 Why does GSA require annual mail management reports?
102-192.100 How do we submit our annual mail management report to GSA?
102-192.105 When must we submit our annual mail management report to GSA?
Performance Measurement Requirements for All Agencies
102-192.110 At what levels in our agency must we have performance measures?
102-192.115 Why must we use performance measures?
Agency Mail Manager Requirements
102-192.120 Must we have an agency mail manager?
102-192.125 What is the appropriate managerial level for an agency mail manager?
102-192.130 What are your general responsibilities as an agency mail manager?
Subpart C—GSA's Responsibilities and Services
102-192.135 What are GSA's responsibilities in mail management?
102-192.140 What types of support does GSA offer to Federal agency mail management programs?
Authority: 44 U.S.C. 2901-2904.

Subpart A—Introduction to This Part

§ 102-192.5 What does this part cover?

This part prescribes policy and requirements for the effective, economical, and secure management of incoming, internal and outgoing mail and materials in Federal agencies.

§ 102-192.10 What authority governs this part?

This part is governed by Section 2 of Public Law 94-575, the Federal Records Management Amendments of 1976 (44 U.S.C. 2901-2904, as amended, that requires the Administrator of General Services to provide guidance and assistance to Federal agencies to ensure economical and effective records management and defines the processing of mail by Federal agencies as a records management activity.

§ 102-192.15 How are “I”, “you”, “me”, “we”, and “us” used in this part?

In this part, “I,” “me,” and “you” in the singular refer to agency mail managers. The context makes it clear which usage is intended in each case. “We,” “us,” and “you” in the plural refer to your Federal agency.

§ 102-192.20 How are “must” and “should” used in this part?

In this part—

(a) “Must” identifies steps that Federal agencies are required to take; and

(b) “Should” identifies steps that the GSA recommends.

Note to § 102-192.20: In their internal policy statements, agencies may require steps that GSA recommends.

§ 102-192.25 Does this part apply to me?

Yes, this part applies to you if you work in mail management in a Federal agency, as defined in § 102-192.35.

§ 102-192.30 To what types of mail and materials does this part apply?

(a) This part applies to all materials that pass through a Federal mail center, including all incoming and outgoing materials, regardless of whether or not they currently pass through a mail center. This includes:

(1) First Class Mail;

(2) Standard Mail;

(3) Periodicals;

(4) Package Services; and

(5) Express Mail.

(b) This part does not apply to shipments of parts or supplies from a material distribution center. A material distribution center is a warehouse that maintains and distributes an inventory of parts and supplies.

§ 102-192.35 What definitions apply to this part?

The following definitions apply to this part:

Accountable mail means any piece of mail for which a service provider and the mail center must maintain a record that shows where the mail piece is at any given time, and when and where it was delivered; examples include United States Postal Service (USPS) registered mail and all expedited mail.

Agency mail manager means the person who manages the overall mail management program of a Federal agency.

Class of mail means one of the five categories of domestic mail as defined by the Mailing Standards of the USPS in the Domestic Mail Manual (DMM) located at http://pe.usps.gov/.

(1) Express mail;

(2) First class (includes priority mail);

(3) Periodicals;

(4) Standard mail, bulk marketing mail; and

(5) Package services.

Commercial payment process means paying for postage using the United States Postal Service's Centralized Account Processing System.

Commingling means combining outgoing mail from one facility or agency with outgoing mail from at least one other source.

Consolidation means the process of combining into a container two or more pieces of mail directed to the same addressee or installation on the same day.

Consolidation of facilities means the process of combining more than one mail center into a central location. The decision to consolidate should be based on a cost analysis comparing the projected cost savings to the costs of implementation.

Expedited mail means mail designated for overnight and two or three day delivery by service providers. Examples of expedited mail include Dalsey, Hillblom, Lynn (DHL); Federal Express (FedEx); United Parcel Service (UPS); and United States Postal Service (USPS) express mail.

Federal agency or agency, as defined in 44 U.S.C. 2901(14), means—

(1) Any executive department as defined in 5 U.S.C. 101;

(2) Any wholly owned Government corporation as defined in 31 U.S.C. 9101;

(3) Any independent establishment in the executive branch as defined in 5 U.S.C. 104; and

(4) Any establishment in the legislative or judicial branch, except the Supreme Court, the Senate, the House of Representatives, the Architect of the Capitol, and all activities under the direction of the Architect of the Capitol.

Federal facility or facility means any office building, installation, base, etc., where Federal agency employees work. This includes any facility where the Federal Government pays postage expenses even though few or no Federal employees are involved in processing the mail.

Incoming mail means any mail that comes into a facility delivered by any service provider, such as DHL, FedEx, UPS, and USPS.

Internal mail means mail generated within a Federal facility that is delivered within that facility or to a nearby facility of the same agency, so long as it is delivered by agency personnel or an agency contractor.

Mail means the types of mail described in § 102-192.30.

Mail center means an organization and/or place, within or associated with a Federal facility, where incoming and/or outgoing Federal mail and materials are processed.

Mail expenditures means direct expenses for postage, fees and services and all other mail costs, meter fees, permit fees, etc. (e.g., payments to service providers, mail center personnel costs, mail center overhead, etc.).

Mail piece design means creating and printing items to be mailed so that they can be processed efficiently and effectively by automated mail processing equipment.

Official Mail means incoming or outgoing mail that is related to official business of the Federal Government.

Official Mail Accounting System (OMAS) means the USPS government specific system used to track postage.

Outgoing mail means mail generated within a Federal facility that is going outside that facility.

Personal mail means incoming or outgoing mail that is not related to official business of the Federal Government.

Postage means payment for delivery service that is affixed or imprinted to a mail piece usually in the form of a postage stamp, permit, imprint, or meter impression.

Presort means a mail preparation process used to receive a discounted mail rate by sorting mail according to USPS standards.

Program level means a component, bureau, regional office and/or a facility that generates outgoing mail.

Service provider means any agency or company that delivers materials and mail. Some examples of service providers are DHL, FedEx, UPS, USPS, courier services, the Department of Defense, the Department of State's Diplomatic Pouch and Mail Division, and other Federal agencies providing mail services.

Sustainability and Sustainable mean to create and maintain conditions under which humans and nature can exist in productive harmony, that permit fulfilling the social, economic, and other requirements of present and future generations.

Telework means a work flexibility arrangement under which an employee performs the duties and responsibilities of such employee's position, and other authorized activities, from an approved worksite other than the location from which the employee would otherwise work.

Unauthorized use of agency postage means the use of penalty or commercial mail stamps, meter impressions, or other postage indicia for personal or unofficial use.

Worksharing is one way of processing outgoing mail so that the mail qualifies for reduced postage rates. Examples of worksharing include presorting, bar coding, consolidating, and commingling.

§ 102-192.40 Where can we obtain more information about the classes of mail?

You can learn more about mail classes in the Domestic Mail Manual (DMM). The DMM is available online at http://pe.usps.gov or you can order a copy from: Superintendent of Documents, U.S. Government Printing Office, P.O. Box 979050, St. Louis, MO 63197-9000.

§ 102-192.45 How can we request a deviation from these requirements, and who can approve it?

See §§ 102-2.60 through 102-2.110 of this chapter to request a deviation from the requirements of this part. The Administrator of General Services and those to whom the Administrator has delegated such authority have the power to approve or deny a deviation.

Subpart B—Agency Requirements

Financial Requirements for All Agencies

§ 102-192.50 What payment processes are we required to use?

(a) All payments to the USPS must be made using either—

(1) The U.S. Treasury Intergovernmental Payment and Collection Payment (IPAC) process associated with the Official Mail Accounting System (OMAS), or

(2) The USPS Centralized Account Processing System (CAPS) associated with commercial payments.

(b) Payments made to service providers other than USPS must be made by U.S. Treasury payment methods such as automated clearing house-electronic funds transfer or a Personal Identification Number (PIN) based debit card.

§ 102-192.55 Why must we use these payment processes?

In accordance with 44 U.S.C. 2904, GSA is required to standardize and improve accountability with respect to records management, including Federal mail management.

§ 102-192.60 How do we implement these payment processes?

Guidance on implementing payment processes can be found at http://www.fms.treas.gov/index.html.

§ 102-192.65 What features must our finance systems have to keep track of mail expenditures?

All agencies must have an accountable system for making postage payments; that is, a system that allocates postage expenses at the program level within the agency and makes program level managers accountable for obligating and tracking those expenses. The agency will have to determine the appropriate program level for this requirement because the level at which it is cost beneficial differs widely. The agency's finance systems should track all mail expenditures separately to the program level or below, and should—

(a) Show expenses for postage and all other mail expenditures, payments to service providers, etc., separate from all other administrative expenses;

(b) Allow mail centers to establish systems to charge their customers for mail expenditures; and

(c) Identify and charge the mail expenditures that are part of printing contracts down to the program level.

Security Requirements for All Agencies

§ 102-192.70 What security policies and plans must we have?

(a) Agencies must have a written mail security policy that applies throughout your agency.

(b) Agencies also must have a written mail security plan for each facility that processes mail, regardless of the facility's mail volume.

(c) Agencies must have a security policy for employees receiving incoming and sending outgoing mail at an alternative worksite, such as a telework center.

(d) The scope and level of detail of each facility mail security plan should be commensurate with the size and responsibilities of each facility. For small facilities, agencies may use a general plan for similar locations. For larger locations, agencies must develop a plan that is specifically tailored to the threats and risks at your location. Agencies should determine which facilities they consider are small and large for the purposes of this section, so long as the basic requirements for a security plan are met at every facility.

(e) All mail managers are required to report annually the status of their mail security plans to agency headquarters. At a minimum, this report should assure that all mail security plans complies with the requirements of this part, including annual review by a subject matter expert and regular rehearsal of responses to various emergency situations by facility personnel.

(f) A security professional who has expertise in mail center security should review the agency's mail security plan and policies annually to include identification of any deficiencies. Review of facility mail security plans can be accomplished by subject matter experts such as agency security personnel. If these experts are not available within your agency, seek assistance from the U.S. Postal Inspection Service or the Federal Protective Service (FPS).

§ 102-192.75 Why must we have written security policies and plans?

All Federal mail programs must identify, prioritize, and coordinate the protection of all mail processing facilities in order to prevent, deter, and mitigate the effects of deliberate efforts to destroy, incapacitate, or exploit the mail center or the national mail infrastructure. Homeland Security Presidential Directive (HSPD 7) at http://www.fas.org/irp/offdocs/nspd/hspd-7.html requires all agencies to protect key resources from terrorist attacks. All Federal mail centers are identified as key resources under the Postal and Shipping Sector Plan. Further details on the plan can be found at the Department of Homeland Security's (DHS) Web site.

§ 102-192.80 How do we develop written security policies and plans?

Agency mail managers must coordinate with their agency security service and/or the FPS or the U.S. Postal Inspection Service to develop agency mail security policies and plans. The FPS has developed standards for building construction and management, including standards for mail centers. At a minimum, the agency mail security plan must address the following topics:

(a) Risk assessment;

(b) A plan to protect staff and all other occupants of agency facilities from hazards that might be delivered in the mail;

(c) Operating procedures;

(d) A plan to provide a visible mail screening operation;

(e) Training mail center personnel;

(f) Testing and rehearsing responses to various emergency situations by agency personnel;

(g) Managing threats;

(h) Communications plan;

(i) Occupant Emergency Plan;

(j) Continuity of Operations Plan; and

(k) Annual reviews of the agency's security plan.

Reporting Requirements for All Agencies

§ 102-192.85 Who must report to GSA annually?

All agencies regardless of size must provide an annual Mail Management Report to GSA. If your agency is a cabinet level or independent agency, the agency mail manager must compile all offices or components and submit one report for the department or agency as a whole, for example, the Department of Defense or the Department of Health and Human Services.

§ 102-192.90 What must we include in our annual mail management report to GSA?

Your agency must provide an agency-wide response to the GSA requested data elements. GSA will provide the list of data elements in a Federal Management Regulation (FMR) Bulletin. GSA coordinates all mail management related FMR Bulletins with the Federal Mail Executive Council and updates them as necessary. FMR Bulletins are available at: http://www.gsa.gov/bulletins.

§ 102-192.95 Why does GSA require annual mail management reports?

GSA requires annual agency mail management reports to—

(a) Ensure that Federal agencies have the policies, procedures, and data to manage their mail operations efficiently and effectively;

(b) Ensure that appropriate security measures are in place; and

(c) Allow GSA to fulfill its responsibilities under the Federal Records Act, especially with regards to sharing best practices, information on training, and promulgating standards, procedures, and guidelines.

§ 102-192.100 How do we submit our annual mail management report to GSA?

You must submit annual reports using the GSA web based Simplified Mail Accountability Reporting Tool (SMART). Training is available from GSA to agency mail managers and other authorized users on how to use the SMART data reporting system. Contact the Mail Management Program office for access and training at 202-501-1777.

§ 102-192.105 When must we submit our annual mail management report to GSA?

Your annual report is due on October 31 of each year for the previous fiscal year.

Performance Measurement Requirements for All Agencies

§ 102-192.110 At what levels in our agency must we have performance measures?

You must have performance measures for mail operations at the agency level and in all facilities and for all program levels.

§ 102-192.115 Why must we use performance measures?

Performance measures gauge the success of your mail management plans and processes by comparing performance over time and among organizations. Performance measures—

(a) Define goals and objectives;

(b) Enhance resource allocation; and

(c) Provide accountability.

Agency Mail Manager Requirements

§ 102-192.120 Must we have an agency mail manager?

Yes, every Federal agency as defined in § 102-192.35, must have an agency mail manager.

§ 102-192.125 What is the appropriate managerial level for an agency mail manager?

The agency mail manager should be at a managerial level that enables him or her to speak for the agency on mail management as outlined in this part.

§ 102-192.130 What are your general responsibilities as an agency mail manager?

In addition to carrying out the responsibilities mentioned above, an agency mail manager should—

(a) Establish written policies and procedures to provide timely and cost effective dispatch and delivery of mail and materials;

(b) Ensure agency-wide awareness and compliance with standards and operational procedures established by all service providers used by the agency;

(c) Set policies for expedited mail, mass mailings, mailing lists, and couriers;

(d) Implement cost savings through:

(1) Consolidating and presorting wherever practical, e.g., internal and external mail, and consolidation of agency-wide mail operations and official mail facilities; and

(2) Reducing the volume of Federal-agency to Federal-agency mail whenever possible.

(e) Develop and direct agency programs and plans for proper and cost effective use of transportation, equipment, and supplies used for mail;

(f) Ensure that all facility and program level mail personnel receive appropriate training and certifications to successfully perform their assigned duties;

(g) Promote professional certification for mail managers and mail center employees;

(h) Ensure that expedited mail service providers are used only when authorized by the Private Express Statutes, 39 U.S.C. 601-606;

(i) Establish written policies and procedures to minimize incoming and outgoing personal mail;

(j) Provide guidance to agency representatives who develop correspondence or design mailing materials including Business Reply Mail, letterhead, and mail piece design;

(k) Represent the agency in its relations with service providers, other agency mail managers, and the GSA Office of Governmentwide Policy;

(l) Ensure agency policy incorporates Federal hazardous materials requirements set forth in 49 CFR parts 100-180; and

(m) Ensure agency sustainable activities become part of the mail program by incorporating strategies in accordance with Executive Order 13514 of October 5, 2009 (“Federal Leadership in Environmental, Energy, and Economic Performance”), specifically Sec. 8 that describes the Agency Strategic Sustainability Performance Plan.

Subpart C—GSA's Responsibilities and Services

§ 102-192.135 What are GSA's responsibilities in mail management?

44 U.S.C 2904(b) directs the Administrator of General Services to provide guidance and assistance to Federal agencies to ensure economical and efficient records management. 44 U.S.C. 2901(2) and (4)(C) define the processing of mail by Federal agencies as part of records management. In carrying out its responsibilities under the Act, GSA is required to—

(a) Develop standards, procedures, and guidelines;

(b) Conduct research to improve practices and programs;

(c) Collect and disseminate information on training programs, technological developments, etc;

(d) Establish one or more interagency committees (e.g., the Federal Mail Executive Council, and the Interagency Mail Policy Council) as necessary to provide an exchange of information among Federal agencies;

(e) Conduct studies, inspections, or surveys;

(f) Promote economy and efficiency in the selection and utilization of space, staff, equipment, and supplies; and

(g) In the event of an emergency, at the request of DHS, cooperate with DHS in communicating with agencies about mail related issues.

§ 102-192.140 What types of support does GSA offer to Federal agency mail management programs?

(a) GSA supports Federal agency mail management programs by—

(1) Assisting in the development of agency policy and guidance in mail management and mail operations;

(2) Identifying best business practices and sharing them with Federal agencies;

(3) Developing and providing access to a Governmentwide management information system for mail;

(4) Helping agencies develop performance measures and management information systems for mail;

(5) Maintaining a current list of agency mail managers;

(6) Establishing, developing, and maintaining interagency mail committees;

(7) Maintaining liaison with the USPS and other service providers at the national level;

(8) Maintaining a publically accessible Web site for mail communications policy; and

(9) Serving as a point of contact for all Federal agencies on mail issues.

(b) For further information contact: U.S. General Services Administration, Office of Governmentwide Policy (MA), 1275 First Street NE., Washington, DC 20417; telephone 202-501-1777, or email: Federal.mail@gsa.gov.

[FR Doc. 2013-11139 Filed 5-10-13; 8:45 am]

BILLING CODE 6820-14-P